DEPARTMENT OF HEALTH AND HUMAN SERVICES

National Institutes of Health

Center for Scientific Review; Amended Notice of Meeting

Notice is hereby given of a change in the meeting of the Cancer Genetics Study Section, October 9, 2008, 8 a.m. to October 9, 2008, 5 p.m., Le Meridien San Francisco, 333 Battery Street, San Francisco, CA, 94111 which was published in the Federal Register on September 19, 2008, 73 FR 54408-54411.

The meeting will be held October 9, 2008 to October 10, 2008. The meeting time and location remain the same. The meeting is closed to the public.

Dated: September 25, 2008.
Jennifer Spaeth,
Director, Office of Federal Advisory Committee Policy.

[FR Doc. E8-23182 Filed 10-1-08; 8:45 am]

BILLING CODE 4140-01-M